DEPARTMENT OF AGRICULTURE

Forest Service

National Urban and Community Forestry Advisory Council

AGENCY: Forest Service, USDA.

ACTION: 2011 Notice of Call for Nominations.

SUMMARY: The National Urban and Community Forestry Advisory Council, (NUCFAC) will be filling five positions that have expired at the end of December 2010. Interested applicants may download a copy of the application and position descriptions from the U.S. Forest Service's Urban and Community Forestry Web site: http://www.fs.fed.us/ucf/.

DATES: Nomination(s) must be “received” (not postmarked) by March 29, 2011.

ADDRESSES: Please submit electronic nomination(s) to: nucfac_ucf_proposals@fs.fed.us. The subject line should read: 2011 NUCFAC Nominations.

Nomination applications sent by courier should be addressed to: Nancy Stremple, Executive Staff to National Urban and Community Forestry Advisory Council, 1400 Independence Avenue, SW., Yates Building (1 Central) MS-1151, Washington, DC 20250-1151.

FOR FURTHER INFORMATION CONTACT: Nancy Stremple, Executive Staff or Mary Dempsey, Staff Assistant to National Urban and Community Forestry Advisory Council, 1400 Independence Avenue, SW., Yates Building (1 Central) MS-1151, Washington, DC 20250-1151, phone 202-205-1054.

Individuals who use telecommunication devices for the deaf (TDD) may call the Federal Information Relay Service (FIRS) at 1-800-877-8339 between 8 a.m. and 8 p.m., Eastern Standard Time, Monday through Friday.

SUPPLEMENTARY INFORMATION: Facsimiles will not be accepted as official nominations. Application submission by e-mail or a courier service is recommended. Regular mail submissions are screened by Department mail services and may delay the receipt of the application up to a month.

A total of five positions will be filled. The following are the five positions that will serve a 3-year term from January 1, 2011, through December 31, 2013:

• One of two members representing a national non-profit forestry and/or conservation citizen organization;

• A member representing State government;

• A member representing county government;

• A member representing urban forestry, landscape, and design consultants;

• A member representing a professional renewable natural resource or arboriculture society.

Dated: February 14, 2011.
Robin L. Thompson,
Associate Deputy Chief, State and Private Forestry.

[FR Doc. 2011-3821 Filed 2-18-11; 8:45 am]

BILLING CODE 3410-11-P